DEPARTMENT OF TRANSPORTATION

Federal Aviation Administration

14 CFR Part 71

[Airspace Docket No. 01-AWP-8]

Modification to Glendale Municipal Airport Class D Surface Area; Glendale, AZ

AGENCY: Federal Aviation Administration (FAA), DOT.

ACTION: Final rule.

SUMMARY: This action amends the ceiling of the Glendale Municipal Airport Class D Surface Area to extend from the surface up to, but not including, 3,000 feet above Mean Sea Level (MSL). The action enhances air traffic operational safety by allowing airspace to be charted in a manner more consistent with the nature of the operations routinely conducted at Glendale Municipal Airport.

EFFECTIVE DATE: November 1, 2001.

FOR FURTHER INFORMATION CONTACT: Jeri Carson, Airspace Specialist, Airspace Branch, AWP-520.11, Air Traffic Division, Western-Pacific Region, Federal Aviation Administration, 15000 Aviation Boulevard, Lawndale, California 90261, telephone number (310) 725-6611.

SUPPLEMENTARY INFORMATION:

Background

On June 5, 2001, the FAA published a document (66 FR 30117) proposing to modify the Class D airspace at Glendale Municipal Airport in Glendale, Arizona. Interested parties were invited to participate in this rulemaking effort by submitting comments on the proposal to the FAA. In the ensuing comment period, which closed on July 20, 2001, the FAA received no comments on the proposed action.

The Rule

This action amends 14 CFR part 71 by lowering the ceiling of the Glendale Municipal Airport Class D Surface Area to extend from the surface up to, but not including, 3,000 feet above Mean Sea Level (MSL). The FAA has determined that this regulation only involves an established body of technical regulations for which frequent and routine amendments are necessary to keep them operationally current. Therefore, this regulation—(1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule will not have a significant economic impact on a substantial number of small entities under the criteria of the Regulatory Flexibility Act.

Class D airspace areas are published in Paragraph 5000 of FAA Order 7400.9H, Airspace Designations and Reporting Points, dated September 1, 2000, and effective September 16, 2000, through September 15, 2001, which is incorporated by reference in 14 CFR 71.1. The Class D airspace designation listed in this document will be published subsequently in that Order.

List of Subjects in 14 CFR Part 71

Airspace, Incorporation by reference, Navigation (air).

Adoption of the Amendment

In consideration of the foregoing, the Federal Aviation Administration amends part 71 of Title 14, Code of Federal Regulations as follows:

PART 72—DESIGNATION OF CLASS A, CLASS B, CLASS C, CLASS D AND CLASS E AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9H, Airspace Designations and Reporting Points, dated September 1, 2000, and effective September 16, 2000, is amended as follows:

Paragraph 5000 Class D Airspace.

* * * * *

AWP AZ D Glendale, AZ [REVISED]

Glendale Municipal Airport, AZ

(Lat. 33°31′38″ N, long. 112°17′42″ W)

That airspace extending upward from the surface to, but not including, 3,000 feet MSL within a 3-mile radius of Glendale Municipal Airport excluding that portion west of a line beginning at lat. 33°29′00″ N, long. 112°19′26″ W; to lat. 33°29′29″ N, long. 112°19′29″W; to lat. 33°33′24″ N, long. 112°18′04″ W; to lat. 33°34′32″ N, long. 112°16′43″ W; This Class D airspace area is effective during the specific dates and times established in advance by a Notice to Airmen. The effective date and time will thereafter be continuously published in the Airport/Facility Directory.

* * * * *

Issued in Los Angeles, California, on August 6, 2001.
John Clancy,
Manager, Air Traffic Division, Western-Pacific Region.

[FR Doc. 01-20816 Filed 8-16-01; 8:45 am]

BILLING CODE 4910-13-M